DEPARTMENT OF HEALTH AND HUMAN SERVICES

Centers for Disease Control and Prevention

National Institute for Occupational Safety and Health; National Occupational Research Agenda

The National Institute for Occupational Safety and Health (NIOSH) of the Centers for Disease Control and Prevention (CDC) announces the following public meeting and request for information:

Name: Opportunity to Provide Input for the National Occupational Research Agenda (NORA).

Time and Date: March 13, 2006, 9 a.m.-5 p.m. EST.

Place: Department of Health and Human Services, Great Hall, The Hubert H. Humphrey Building, 200 Independence Avenue, SW., Washington, DC 20201.

Status: This meeting is open to the public, limited only by the space available.

Background: NORA is a framework to guide occupational safety and health research for the nation. NORA seeks to focus research in order to reduce work-related injury and illness. As the program approaches a ten-year milestone, NIOSH is accepting input from individuals and organizations on important research issues and agendas. This input will assist in the development of the initiative's future direction, which will be based on eight different industry sector groups.

The public meetings are open to everyone, including all workers, professional societies, organized labor, employers, researchers, health professionals, government officials, and elected officials. Broad participation is desired. All participants are requested to register for the free meeting at the NORA Web page or onsite the day of the meeting. Participants wishing to speak are encouraged to register early.

Purpose: The meeting will address priorities for research during a morning and an afternoon public comment period. Stakeholders will be invited to speak for 5 minutes on an important occupational safety and health issue, including those that occur in multiple sectors. Participants may register to speak during either the morning or the afternoon session, though they are encouraged to stay for both sessions should they choose.

Types of occupational safety and health issues might include diseases, injuries, exposures, populations at risk, and needs of occupational safety and health systems. Falls from heights, for example, might be a top injury issue for the residential construction industry. Low back pain and related back disorders might be a top disease concern for the urban transit industry.

If possible, please include as much information as might be useful for understanding the safety or health research priority you identify. Such information could include characterization of the frequency and severity with which the injury, illness, or hazardous exposure is occurring and of the factors you believe might be causing the health or safety issue. Input is also requested on the types of research that you believe might make a difference and which partners (e.g., specific industry associations, labor organizations, research organizations, governmental agencies) should be involved in informing research efforts and solutions.

All presentations will be entered into the NORA Docket, which is maintained by NIOSH. All comments in the NORA Docket will be used to help shape sector-specific and related cross-sector research agendas for the nation. Comments may also be e-mailed to niocindocket@cdc.gov or sent via postal mail to Docket NIOSH-047, Robert A. Taft Laboratories (C-34), 4676 Columbia Parkway, Cincinnati, Ohio 45226. More information about NORA can be found on the NORA Web page at http://www.cdc.gov/niosh/nora/townhall.

For Further Information Contact: Sid Soderholm, PhD, NORA Coordinator, (202) 401-0721.

Stakeholders are also invited to submit comments electronically at the NORA Web page http://www.cdc.gov/niosh/nora. Comments submitted to the Web page by others can also be viewed there along with information about similar meetings that were held earlier.

The Director, Management Analysis and Services Office, has been delegated the authority to sign Federal Register Notices pertaining to announcements of meetings and other committee management activities, for both CDC and the Agency for Toxic Substances and Disease Registry.

Dated: February 6, 2006.
Alvin Hall,
Director, Management Analysis and Services Office, Centers for Disease Control and Prevention.

[FR Doc. E6-2017 Filed 2-13-06; 8:45 am]

BILLING CODE 4163-18-P